SMALL BUSINESS ADMINISTRATION

13 CFR Parts 102 and 134

RIN 3245-AF36

Office of Hearings & Appeals and Freedom of Information Act and Privacy Acts Office; Address Change

AGENCY: U.S. Small Business Administration (SBA).

ACTION: Direct final rule.

SUMMARY: The Office of Hearings and Appeals (OHA) and Freedom of Information Act and Privacy Acts Office (FOI/PA) are amending their regulations to reflect a change in their address. This action is technical in nature and is intended to improve the accuracy of the Agency's regulations.

DATES: This rule is effective July 11, 2005 without further action, unless adverse comment is received by June 24, 2005. If the adverse comment is received, SBA will publish a timely withdrawal of the rule in the Federal Register.

ADDRESSES: You may submit comments, identified by the RIN number 3245-AF36, by any of the following methods: (1) Federal rulemaking portal at http://www.regulations.gov; (2) Agency Web site: http://www.sba.gov/; (3) E-mail: delorice.ford@sba.gov; (4) Mail to: Delorice Price Ford, Assistant Administrator, Office of Hearings & Appeals, 409 3rd Street, SW., Washington, DC 20416; and (5) Hand Delivery/Courier: 409 3rd Street, SW., Washington, DC 20416.

FOR FURTHER INFORMATION CONTACT: Delorice Price Ford, Assistant Administrator, Office of Hearings & Appeals, 409 3rd Street, SW., Washington, DC 20416, (202) 401-8200, or by e-mail at delorice.ford@sba.gov.

SUPPLEMENTARY INFORMATION: OHA and FOI/PA are amending their regulations in 13 CFR parts 102 and 134 to reflect a change in its address. The current address listed in the above regulations is 409 3rd Street, SW., Suite 5900, Washington, DC 20416. The new address deletes the suite number, but the street address remains the same: 409 3rd Street, SW., Washington, DC 20416.

Publication of this document constitutes final action on these changes under the Administrative Procedure Act (5 U.S.C. 553). Notice and public procedure are unnecessary because OHA and FOI/PA are merely correcting nonsubstantive errors.

SBA is publishing this rule as a direct final rule because it believes the rule is non-controversial since it merely conforms with SBA rules to express a change in address for service to OHA and FOI/PA. As explained in the previous paragraph, this is beneficial to parties that have dealings with OHA and FOI/PA. SBA believes that this direct final rule will not elicit any significant adverse comments. However, if adverse comments are received, SBA will publish a timely notice of withdrawal in the Federal Register.

Compliance With Executive Orders 13132, 12988 and 12866, the Regulatory Flexibility Act (5 U.S.C. 601-612, and the Paperwork Reduction Act (44 U.S.C. Ch. 35)

This regulation will not have substantial direct effects on the States, on the relationship between the national government and the States, or on the distribution of power and responsibilities among the various levels of government. Therefore, for the purposes of Executive Order 13132, SBA determines that this direct final rule has no federalism implications warranting preparation of a federalism assessment.

The Office of Management and Budget (OMB) has determined that this rule does not constitute a significant regulatory action under Executive Order 12866.

This action meets applicable standards set forth in sections 3(a) and 3(b)(2) of Executive Order 12988, Civil Justice Reform, to minimize litigation, eliminate ambiguity, and reduce burden. The action does not have retroactive or preemptive effect.

SBA has determined that this direct final rule does not impose additional reporting or recordkeeping requirements under the Paperwork Reduction Act, 44 U.S.C. Chapter 35.

The Regulatory Flexibility Act (RFA), 5 U.S.C. 601, requires administrative agencies to consider the effect of their actions on small entities, small non-profit enterprises, and small local governments. Pursuant to the RFA, when an agency issues a rulemaking, the agency must prepare a regulatory flexibility analysis which describes the impact of the rule on small entities. However, section 605 of the RFA allows an agency to certify a rule, in lieu of preparing an analysis, if the rulemaking is not expected to have a significant economic impact on a substantial number of small entities. Within the meaning of RFA, SBA certifies that this rule will not have a significant economic impact on a substantial number of small entities. Consequently, this rule does not meet the substantial number of small businesses criterion anticipated by the Regulatory Flexibility Act.

List of Subjects

13 CFR Part 102

Record Disclosure and Privacy.

13 CFR Part 134

Administrative practice and procedure, organization and functions (Government agencies).

For the reasons stated in the preamble, the U.S. Small Business Administration amends 13 CFR parts 102 and 134 as set forth below:

PART 102—RECORD DISCLOSURE AND PRIVACY

1. The authority citation for part 102 continues to read as follows:

Authority: 5 U.S.C. 552 and 552a; 31 U.S.C. 1 et seq. and 67 et seq.; 44 U.S.C. 3501 et seq.; E.O. 12600, 3 CFR, 1987 Comp., p. 235.

§ 102.30 [Amended]

2. Section 102.30 is amended by revising the address to read “409 3rd Street, SW., Washington, DC 20416.”

PART 134—RULES OF PROCEDURE GOVERNING CASES BEFORE THE OFFICE OF HEARINGS AND APPEALS

3. The authority citation for part 134 continues to read as follows:

Authority: 5 U.S.C. 504; 15 U.S.C. 632, 634(b)(6), 637(a), 648(l), 656(i) and 687(c); E.O. 12549, 51 FR 6370, 3 CFR, 1986 Comp., p. 189.

§ 134.204 [Amended]

4. Section 134.204(b)(1) is amended by revising the address to read “409 3rd Street, SW., Washington, DC 20416.”

Dated: May 19, 2005.
Hector V. Barreto,
Administrator.

[FR Doc. 05-10384 Filed 5-24-05; 8:45 am]

BILLING CODE 8025-01-P